DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with July anniversary dates. In accordance with the Department's regulations, we are initiating those administrative reviews. The Department also received requests to revoke four antidumping duty orders in part.

EFFECTIVE DATE: August 20, 2001.

FOR FURTHER INFORMATION CONTACT: Holly A. Kuga, Office of AD/CVD Enforcement , Import Administration, International Trade Administration, U.S. Department of Commerce, 14th Street and Constitution Avenue, N.W., Washington, D.C. 20230, telephone: (202) 482-4737.

SUPPLEMENTARY INFORMATION:

Background

The Department has received timely requests, in accordance with 19 CFR 351.213(b)(2000), for administrative reviews of various antidumping and countervailing duty orders and findings with July anniversary dates. The Department also received timely requests to revoke in part the antidumping duty orders on Silicon Metal from Brazil, Fresh Atlantic Salmon from Chile, and Certain Pasta from Italy and Turkey.

Initiation of Reviews

In accordance with 19 CFR 351.221(c)(1)(i), we are initiating administrative reviews of the following antidumping and countervailing duty orders and findings. We intend to issue the final results of these reviews not later than July 31, 2002.

| Period to be reviewed
Antidumping Duty Proceedings
Brazil—Silicon Metal, A-351-806:
Companhia Brasileira Carbureto De Calcio | 7/1/00-6/30/01
Companhia Ferroligas Minas Gerais-Minasligas
RIMA Industrial S/A
Chile—Fresh Atlantic Salmon, A-337-803:
Acuicultura de Aquas Australes | 7/1/00-6/30/01
Agromar Ltda.
Aguas Claras S.A.
Antarfish S.A.
Aquachile S.A.
Aquasur Fisheries Ltda.
Asesoria Acuicola S.A.
Australis S.A.
Best Salmon
Cenculmavique
Centro de Cultivo de Moluscos
Cerro Farrellon Ltda.
Chile Cultivos S.A.
Chisal S.A.
Comercializadora Smoltech Ltda.
Complejo Piscicola Coyhaique
Cultivadora de Salmones Linao Ltda.
Cultivos Marinos Chiloe Ltda.
Cultivos San Juan
Cultivos Yardan S.A.
Empresa Nichiro Chile Ltda.
Fiordo Blanco S.A.
Fisher Farms
Fitz Roy S.A.
Friosur S.A.
Ganadera Del Mar
G.M. Tornagaleones S.A.
Hiuto Salmones S.A.
Huitosal Mares Australes Salmo Pac.
Instituto Tecnologico Del Salmon S.A.
Inversiones Pacific Star Ltda.
Invertec Pesquera Mar de Chiloe Ltda.
Manao Bay Fishery S.A.
Mardim Ltda.
Marine Harvest Chile S.A.
Ocean Horizons Chile S.A.
Pacific Mariculture
Patagonia Fish Farming S.A.
Patagonia Salmon Farming S.A.
Pesca Chile S.A.
Pesquera Antares S.A.
Pesquera Chiloe S.A.
Pesquera Eicosal Ltda.
Pesquera Friosur S.A.
Pesquera Los Fiordos Ltda.
Pesquera Mares Australes Ltda.
Pesquera Mares de Chile S.A.
Pesquera Pacific Star
Pesquera Quellon Ltda.
Pesquera Y Comercial Rio Peulla S.A.
Piscicola Entre Rios S.A.
Piscicultura Iculpe
Piscicultura La Cascada
Piscultura Santa Margarita
Productos Del Mar Ventisqueros S.A.
Prosmolt S.A.
Quetro S.A.
River Salmon S.A.
Robinson Crusoe Y Cia. Ltda.
Salmoamerica
Salmones Andes S.A.
Salmones Antarctica S.A.
Salmones Aucar Ltda.
Salmones Caicaen S.A.
Salmones Calbuco S.A.
Salmones Chiloe S.A.
Salmones Friosur S.A.
Salmones Huillinco S.A.
Salmones Ice Val Ltda.
Salmones Llanquihue
Salmones Mainstream S.A.
Salmones Multiexport Ltda.
Salmones Pacific Star Ltda.
Salmones Pacifico Sur S.A.
Salmones Quellon
Salmones Ranco Sur Ltda.
Salmones Skyring S.A.
Salmones Tecmar S.A.
Salmones Tierra Del Fuego Ltda.
Salmones Unimarc S.A.
Salmosan
Seafine Salmon S.A.
Soc. Alimentos Maritimos Avalon Ltda.
Soc. Aquacultivos Ltda.
Truchas Aguas Blancas Ltda.
Trusal S.A.
Ventisqueros S.A.
Germany—Stainless Steel Sheet and Strip in Coils, A-427-825: Krupp Thyssen Nirosta GmbH | 7/1/00-6/30/01
Iran—Certain In-Shell Raw Pistachios, A-507-502: Rafsanjan Pistachio Producers Cooperative | 7/1/00-6/30/01
Italy—Certain Pasta, A-475-818:
CO.R.EX. S.p.A | 7/1/00-6/30/01
Italian American Pasta Company S.r.l.
La Molisana Industrie Alimentari S.p.A.
N. Puglisi & F. Industria Paste Alimentari S.p.A./Rienzi & Sons, Inc.
Pastificio Fratelli Pagani S.p.A.
Pastificio Garofalo S.p.A.
Pastificio Guido Ferrara S.r.l.
Italy—Stainless Steel Sheet and Strip in Coils, A-475-824: Acciai Speciali Terni S.p.A. | 7/1/00-6/30/01
Mexico—Stainless Steel Sheet and Strip in Coils, A-201-822: Mexinox S.A. de C.V | 7/1/00-6/30/01
Republic of Korea—Stainless Steel Sheet and Strip in Coils, A-580-834:
Dai Yang Metal Co., Ltd | 7/1/00-6/30/01
Pohang Iron & Steel Co., Ltd.
Samwon Precision Metals Co., Ltd.
Thailand—Canned Pineapple, A-549-813:
Dole (Thailand) Ltd | 7/1/00-6/30/01
Kuiburi Fruit Canning Company Limited
Malee Sampran Factory Public Co., Ltd.
Prachuab Fruit Canning Company
Siam Food Products Company Limited
Siam Fruit Canning (1988) Co., Ltd.
Thai Pineapple Canning Industry Corp., Ltd.
Thai Pineapple Public Co., Ltd.
Vita Food Factory (1989) Ltd.
Thailand—Furfuryl Alcohol, A-549-812: Indorama Chemicals Thailand Ltd | 7/1/00-6/30/01
The People's Republic of China—Bulk Aspirin,¹ A-570-853:
Shandong Xinhua Pharmaceutical Co., Ltd | 7/6/00-6/30/01
Shandong Xinhua Pharmaceutical Import & Export Co., Ltd.
Shandong Xinhua Pharmaceutical Factory
Nanjing Pharmaceutical Co., Ltd.
Lianjunyang City Foreign Trading Co.
Tianjin Chemical Import & Export Co.
Rich Shipping Co., Ltd.
Jilin Pharmaceutical Co., Ltd.
Jilin Pharmaceutical Import & Export Corporation
China Jiangsu International Economic-Technical Cooperation Co.
Heilongjiang Guangyuan Medicine Co., Ltd.
Xiamen Maike Chemistry Imports & Exports Co., Ltd.
Qiqihaer Import & Export Co.
China Chemical Jiangsu Suzhou Import & Export Co., Ltd.
Oceanic Bridge International, Inc.
Jilin Medical & Health Products Import & Export Co.
The People's Republic of China—Persulfates,² A-570-847:
Sinochem Jiangsu Wuxi Import & Export Corp | 7/1/00-6/30/01
Shanghai Ai-Jian Import & Export Corp.
The People's Republic of China—Sebacic Acid,³ A-570-825:
Guandong Chemicals Import & Export Corp | 7/1/00-6/30/01
Sinochem International Chemicals Corporation
Sinochem Tianjin Import & Export Corp.
Turkey—Certain Pasta, A-489-805: Filiz Gida Sanayi ve Ticaret A.S | 7/1/00-6/30/01
United Kingdom—Industrial Nitrocellulose, A-412-803: Imperial Chemical Industries PLC | 7/1/00-6/30/01
Countervailing Duty Proceedings
Italy—Certain Pasta, C-475-819:
Delverde, SpA | 1/1/00-12/31/00
F.lli De Cecco di Filippo Fara S. Martino S.p.A.
Italian American Pasta Company, S.r.L.
Labor S.r.L.
N. Puglisi & F. Industria Paste Alimentari S.p.A./Rienzi & Sons, Inc.
Thailand—Certain Carbon Steel Butt-Weld Pipe Fittings, C-549-807: Thai Benkan Company, Ltd | 1/1/00-12/31/00
Suspension Agreements
Brazil—Hot-Rolled Flat-Rolled Carbon-Quality Steel Products, A-351-828:
Companhia Siderurgica Paulista | 7/1/00-6/30/01
Companhia Siderurgica Nacional
Usinas Siderurgica de Minas Gerais
¹ If one of the above named companies does not qualify for a separate rate, all other exporters of bulk aspirin from the People's Republic of China who have not qualified for a separate rate are deemed to be covered by this review as part of the single PRC entity of which the named exporters are a part.
² If one of the above named companies does not qualify for a separate rate, all other exporters of persulfates from the People's Republic of China who have not qualified for a separate rate are deemed to be covered by this review as part of the single PRC entity of which the named exporters are a part.
³ If one of the above named companies does not qualify for a separate rate, all other exporters of sebacic acid from the People's Republic of China who have not qualified for a separate rate are deemed to be covered by this review as part of the single PRC entity of which the named exporters are a part.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: August 10, 2001.
Holly A. Kuga,
Senior Office Director, Group II, Office 4, AD/CVD Enforcement.

[FR Doc. 01-20913 Filed 8-17-01; 8:45 am]

BILLING CODE 3510-DS-P